DEPARTMENT OF HEALTH AND HUMAN SERVICES

National Institutes of Health

Center for Scientific Review; Amended Notice of Meeting

Notice is hereby given of a change in the meeting of the Development—1 Study Section, June 7, 2007, 8 a.m. to June 8, 2007, 5 p.m., Georgetown Suites, 1000 29th Street, Washington, DC 20007 which was published in the Federal Register on May 1, 2007, 72 FR 23842-23843.

The meeting will be held on June 7, 2007, from 8 a.m. to 8 p.m. The meeting location remains the same. The meeting is closed to the public.

Dated: May 21, 2007.
Jennifer Spaeth,
Director, Office of Federal Advisory Committee Policy.

[FR Doc. 07-2626 Filed 5-25-07; 8:45 am]

BILLING CODE 4140-01-M